DEPARTMENT OF JUSTICE

Office of Justice Programs

Agency Information Collection Activities: Proposed Collection; Comment Request

ACTION: 30-Day notice of information collection under review: Edward Byrne Memorial State and Local Law Enforcement Assistance Program.

The Department of Justice, Office of Justice Programs (OJP), Bureau of Justice Assistance (BJA), has submitted the following information collection request for review and clearance in accordance with the Paperwork Reduction Act of 1995. The proposed information collection is published to obtain comments from the public and affected agencies. This proposed information collection was previously published in the Federal Register, Volume 68, Number 66, page 16831, on April 7, 2003, allowing for a 60 day comment period.

The purpose of this notice is to allow for an additional 30 days for public comment until September 15, 2003. This process is conducted in accordance with 5 CFR 1320.10.

Written comments, or suggestions regarding the item(s) contained in this notice, especially regarding the estimated public burden and associated response time, should be directed to the Office of Management and Budget, Office of Information and Regulatory Affairs, Attention: Department of Justice Desk Officer, Washington, DC 20530. Additionally, comments may be submitted to OMB via facsimile at (202) 395-7285.

Written comments and suggestions from the public and affected agencies concerning the proposed collection of information are encouraged. Your comments should address one or more of the following four points:

(1) Evaluate whether the proposed collection of information is necessary for the proper performance of the function of the agency, including whether the information will have practical utility.

(2) Evaluate the accuracy of the agency's estimate of the burden of the proposed collection of information, including the validity of the methodology and assumptions used.

(3) Enhance the quality, utility, and clarity of the information to be collected.

(4) Minimize the burden of the collection of information on those who are to respond, including through the use of appropriate automated, electronic, mechanical, or other technological collection techniques or other forms of information technology, e.g., permitting electronic submission of responses.

Overview of this information:

(1) Type of information collection: Reinstatement, with change, of a previously approved collection for which approval has expired.

(2) The title of the form/collection: Edward Byrne Memorial State and Local Law Enforcement Assistance Program.

(3) The agency form number, if any, and the applicable component of the Department sponsoring the collection: Form Number: OJP FORM 4061/6, Office of Justice Programs, Department of Justice.

(4) Affected public who will be asked or required to respond, as well as a brief abstract. Primary: State, local, or Tribal Governments. Other: None. Abstract: This request covers application requirements to receive formula grant funds under the Edward Byrne Memorial State and Local Law Enforcement Assistance Program. There are 56 eligible states and territories. The goal of the program is to create safer communities. BJA relies on the information collected in the application package to make an affirmative finding that the state applicant will carry out programs or projects consistent the direction of Congress.

(5) An estimate of the total number of respondents and the amount of time estimated for an average respondent to respond/reply: There are approximately 56 respondents who will respond 1 time per year, for a total of 56 responses. Each response will require approximately 24 hours to complete.

(6) An estimate of the total public burden (in hours) associated with the collection: The total annual public burden hours for this information collection is estimated to be 1344 hours.

If additional information is required, contact: Ms. Brenda E. Dyer, Deputy Clearance Officer, U.S. Department of Justice, Planning and Policy Staff, Justice Management Division, 601 D Street, NW., Washington, DC 20004, or via facsimile at (202) 514-1590.

Dated: August 8, 2003.
Brenda E. Dyer,
Deputy Clearance Officer, Department of Justice.

[FR Doc. 03-20883 Filed 8-14-03; 8:45 am]

BILLING CODE 4410-18-P